DEPARTMENT OF TRANSPORTATION

Federal Motor Carrier Safety Administration

[Docket No. FMCSA-2016-0026]

Qualification of Drivers; Exemption Applications; Vision

AGENCY: Federal Motor Carrier Safety Administration (FMCSA), DOT.

ACTION: Notice of denials.

SUMMARY: FMCSA announces its denial of 137 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 137 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 4 applicants did not have sufficient driving experience over the past 3 years under normal highway operating conditions: Bradlee J. Durham, Nolan B. Dykema, Jerry M. Elsberry, Jr., James A. Pugh.

The following 23 applicants had no experience operating a CMV: Jeret D. Akers, Jose G. Alvarez, Cristian D. Berlingeri, Larry G. Buchanan, Enedino A. Burgos, Michael E. Carter, Shernard Cook, Benjamin J. Curtis, Larry L. Davis, Jr., Jesse J. DeRico, Brent I. Gruszka, Andrei I. Gusakov, Damian Klyza, Miriam Laing, Patrick N. Lancaster, Daniel F. Large, Curtis G. Myrah, Omar Orozco, Moises A. Portillo, Samuel C. Rodriguez, Mark J. Smithson, William B. Stiles, Sr., Michael H. Taylor.

The following 22 applicants did not have 3 years of experience driving a CMV on public highways with their vision deficiencies: Osman M. Adanalic, Christopher L. Bolding, William H. Conley, Fernando Cuevas, Fred L. Curtis, Kurt D. Davis, Adriano De Vargas, Alex J. Demaree, Dennis C. Durstine, Howard G. Edgar, Hamid Ferdowsi, Eric S. Hill, Wayde J. Isbell, Lloyd H. Kiihn, Earl B. Moffatt, Bryan S. Moses, Ronald R. Regier, John A. Ruggiero, Timothy P. Ryan, Charles E. Schrecengost, Barney R. Stephens, Larry L. Stewart.

The following 16 applicants did not have 3 years of recent experience driving a CMV with the vision deficiency: John F. Armstrong, Gerald L. Barber, Daniel J. Council, Helmut Danecker, Anthony R. Dirjan, David N. Groves, Antonio A. Jackson, Herman R. Lee, Jr., Robert C. Mason, Wayne C. Merry, Sherard L. Orange, Daniel D. Sandoval, Edward V. Skowronski, Colby T. Smith, Kenneth L. Sutphin, Bryan H. Walker.

The following 12 applicants did not have sufficient driving experience during the past 3 years under normal highway operating conditions: Joshua L. Arnold, Kevin D. Duffy, Thomas M. Hallwig, Gabriel L. Harrison, Richard K. Hemmingsen, Gerardo Hernandez, Raul T. Leiva, Nathan M. Magaard, Mark Paugh, Gregory M. Quilling, Chad M. Smith, Jeffrey L. Tanner.

The following 2 applicants had their commercial driver's licenses suspended during the previous 3-year period: Michael J. Achille, Tydrick D. Brooks.

The following 3 applicants contributed to an accident(s) while operating a CMV: Thomas R. Abbott, Timothy L. Bauman, Randy J. Miller.

The following applicant, Thomas D. Jacobsen, did not hold a license which allowed operation of vehicles over 26,000 lbs. for all or part of the previous 3-year period.

The following applicant, Toby L. Simmons, did not have an optometrist or ophthalmologist willing to make a statement that they are able to operate a commercial vehicle from a vision standpoint.

The following 9 applicants were denied for multiple reasons: Joseph D. Allen, Dennis M. Coley, Timothy W. Detweiler, Hector O. Flores, Jonathan M. Gilligan, David P. Mello, Edward R. Slater, Hawthorne B. Smith, Thomas D. Walsh.

The following applicant, Christopher D. Boyd, did not have stable vision for the entire 3-year period.

The following 13 applicants met the current federal vision standards. Exemptions are not required for applicants who meet the current regulations for vision: Hani Abiyounes, Kendall K. Chandler, Chad A. Curtis, Shorty Ellis, Karl D. Graves, Carl Groves, Alexander J. Hartelust, Lark M. Hartsock, James E. Jordon, Dorvin R. Neuberger, Peter J. Niedzwiecki, Raimer A. Paredes-Escano, Timothy T. Tyree.

The following 3 applicants drove interstate while restricted to intrastate: Adrienne J. Allen, James L. Jones, Troy A. Stephens.

The following 19 applicants will not be driving interstate, interstate commerce, or are not required to carry a DOT medical card: Gary W. Brockway, Fredrick Brown, Richard C. Brust, Joseph L. Cohea, Robert L. Damron, James E. Donaldson, Richard Duran, Freddie M. Henderson, Brian D. Hoover, Ron E. Hullett, Walter J. Jurczak, Keith Kebschull, Charles J. Kruggel, Lois J. Mahar, Dustin M. Mills, Wilbur Robinson, Jr., Robert G. Schoenborn, Phillip J. Will, James L. Yingst.

Finally, the following 8 applicants perform transportation for the federal government, state, or any political sub-division of the state. Randy L. Coney, Rodriquez D. Evans, Jose A. Flores, Ira D. Manuelito, Steven C. Myers, Leif H. Stensrud, Joshua E. Weicht, Aaron E. Zelmer.

Issued on: April 18, 2016.
Larry W. Minor,
Associate Administrator for Policy.

[FR Doc. 2016-09529 Filed 4-22-16; 8:45 am]

BILLING CODE 4910-EX-P